DEPARTMENT OF HEALTH AND HUMAN SERVICES

National Institutes of Health

Center for Scientific Review; Amended Notice of Meeting

Notice is hereby given of a change in the meeting of the Systemic Injury by Environmental Exposure, June 17, 2015, 08:00 a.m. to June 18, 2015, 05:00 p.m., Hyatt Regency Bethesda, One Bethesda Metro Center, 7400 Wisconsin Avenue, Bethesda, MD, 20814 which was published in the Federal Register on May 13, 2015, 80 FR Pg. 28630.

The meeting will be held on 06/18/2015-06/19/2015 instead of 06/17/2015-06/18/2015. The meeting time and location remains the same. The meeting is closed to the public.

Dated: May 19, 2015.
Michelle Trout,
Program Analyst, Office of Federal Advisory Committee Policy.

[FR Doc. 2015-12545 Filed 5-22-15; 8:45 am]

BILLING CODE 4140-01-P